DEPARTMENT OF AGRICULTURE

Food and Nutrition Service

7 CFR Parts 210 and 235

[FNS-2011-0030]

RIN 0584-AE19

Professional Standards for State and Local School Nutrition Programs Personnel as Required by the Healthy, Hunger-Free Kids Act of 2010

AGENCY: Food and Nutrition Service (FNS), USDA.

ACTION: Final rule; correction.

SUMMARY: This document contains a correction to the final rule published in the Federal Register on March 2, 2015, “Professional Standards for State and Local School Nutrition Programs Personnel as Required by the Healthy, Hunger-Free Kids Act of 2010.”

DATES: Effective date: This document is effective July 1, 2015. Compliance with the final rule must begin July 1, 2015, except as noted in specific regulatory provisions.

FOR FURTHER INFORMATION CONTACT: Julie Brewer, School Programs Branch, Policy and Program Development Division, Food and Nutrition Service, at (703) 305-2590.

SUPPLEMENTARY INFORMATION: The Food and Nutrition Service published a final rule in the Federal Register, 80 FR 11077, on March 2, 2015, to establish professional standards for State and local school nutrition program personnel. The final rule omitted part of a criterion from the hiring standards established in 7 CFR 210.30(b) for local educational agencies with 2,499 or fewer enrolled students. This document corrects the oversight by providing the missing regulatory text for 7 CFR 210.30(b)(1)(i)(B) and the summary chart in 7 CFR 210.30(b)(2). This document also makes a technical correction in 7 CFR 210.30(b)(3) to ensure readers clearly understand the annual training standards for school nutrition program directors. All other information in the final rule remains unchanged.

Corrections

1. In § 210.30:

a. On page 11092, in the second column, revise paragraph (b)(1)(i)(B);

b. On page 11093, in the third column, revise the chart in paragraph (b)(2); and

c. On page 11094, in the first column, amend the fourth sentence in paragraph (b)(3) by removing the word “cover” and adding in its place the words “include, but is not limited to,”.

The revisions read as follows:

§ 210.30 School nutrition program professional standards.

* * * * *

(b) * * *

(1) * * *

(i) * * *

(B) A bachelor's degree, or equivalent educational experience, with any academic major or area of concentration, and either a State-recognized certificate for school nutrition directors or at least one year of relevant school nutrition program experience;

* * * * *

(2) * * *

Summary of School Nutrition Program Director Professional Standards by Local Educational Agency Size
Minimum requirements for directors | Student enrollment 2,499 or less | Student enrollment 2,500-9,999 | Student enrollment 10,000 or more
Minimum Education Standards (required) (new directors only) | Bachelor's degree, or equivalent educational experience, with academic major or concentration in food and nutrition, food service management, dietetics, family and consumer sciences, nutrition education, culinary arts, business, or a related field. | Bachelor's degree, or equivalent educational experience, with academic major or concentration in food and nutrition, food service management, dietetics, family and consumer sciences, nutrition education, culinary arts, business, or a related field; | Bachelor's degree, or equivalent educational experience, with academic major or concentration in food and nutrition, food service management, dietetics, family and consumer sciences, nutrition education, culinary arts, business, or a related field;
| OR | OR | OR
| Bachelor's degree, or equivalent educational experience, with any academic major or area of concentration, and either a State-recognized certificate for school nutrition directors or at least 1 year of relevant school nutrition program experience; | Bachelor's degree, or equivalent educational experience, with any academic major or area of concentration, and a State-recognized certificate for school nutrition directors; | Bachelor's degree, or equivalent educational experience, with any academic major or area of concentration, and a State-recognized certificate for school nutrition directors;
| OR | OR | OR
| Associate's degree, or equivalent educational experience, with academic major or concentration in food and nutrition, food service management, dietetics, family and consumer sciences, nutrition education, culinary arts, business, or a related field; and at least 1 year of relevant school nutrition program experience; OR High school diploma (or GED) and 3 years of relevant school nutrition program experience. | Bachelor's degree in any academic major and at least 2 years of relevant school nutrition program experience. OR Associate's degree, or equivalent educational experience, with academic major or concentration in food and nutrition, food service management, dietetics, family and consumer sciences, nutrition education, culinary arts, business, or a related field; and at least 2 years of relevant school nutrition program experience. | Bachelor's degree in any major and at least 5 years of experience in management of school nutrition programs.
Minimum Education Standards (preferred) (new directors only) | Directors hired without an associate's degree are strongly encouraged to work toward attaining associate's degree upon hiring. | Directors hired without a bachelor's degree strongly encouraged to work toward attaining bachelor's degree upon hiring. | Master's degree, or willingness to work toward master's degree, preferred.
|  |  | At least 1 year of management experience, preferably in school nutrition, strongly recommended. At least 3 credit hours at the university level in food service management plus at least 3 credit hours in nutritional sciences at time of hiring strongly preferred.
Minimum Prior Training Standards (required ) (new directors only) | At least 8 hours of food safety training is required either not more than 5 years prior to their starting date or completed within 30 calendar days of employee's starting date.

* * * * *

Dated: April 30, 2015.
Jeffrey J. Tribiano,
Acting Administrator, Food and Nutrition Service.

[FR Doc. 2015-10621 Filed 5-6-15; 8:45 am]

BILLING CODE 3410-30-P